DEPARTMENT OF JUSTICE

Notice of Lodging of Consent Decree Between the United States of America and Donald Boatright Under CERCLA

Under 28 CFR 50.7, notice is hereby given that on June 6, 2006, a proposed Consent Decree (“Consent Decree”) with Defendant Donald Boatright in United States v. Donald E. Horne, et al., Civil Action No. 05-497, has been lodged with the United States District Court for the Western District of Missouri.

This Consent Decree resolves the United States' pending claims against Donald Boatright under section 107 of CERCLA 42 U.S.C. 9607 at the Armour Road Superfund Site in North Kansas City, Missouri. Under the terms of that decree, Mr. Boatright shall pay to the United States $175,000.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Donald E. Horne, et al., Civil Action No. 05-497, D.J. Ref. 90-11-3-08035/1.

The Consent Decree may be examined at the Office of the United States Attorney, Western District of Missouri, Charles Evans Whittaker Courthouse, 400 East Ninth Street, Room 5510, Kansas City, Missouri 64106. During the public comment period, the Consent Decree may be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.50 (25 cents per page reproduction cost) payable to the United States Treasury for payment.

Robert Maher,
Assistant Section Chief, Environmental Enforcement Section, Environment and Natural Resources Division.

[FR Doc. 06-5766 Filed 6-27-06; 8:45 am]

BILLING CODE 4410-15-M